DEPARTMENT OF THE TREASURY

Alcohol and Tobacco Tax and Trade Bureau

27 CFR Part 9

[Notice No. 31; Re: ATF Notice Nos. 960 and 966; TTB Notice No. 6]

RIN: 1513-AA39

Proposed Red Hill Douglas County, OR Viticultural Area (2001R-88P)

AGENCY: Alcohol and Tobacco Tax and Trade Bureau, Treasury.

ACTION: Notice of proposed rulemaking; reopening of comment period.

SUMMARY: The Alcohol and Tobacco Tax and Trade Bureau reopens the comment period for Notice No. 960, a notice of proposed rulemaking published in the Federal Register to add “Red Hill (Oregon)” as an approved American viticultural area. We are re-opening the comment period for 30 days to solicit comments on a new proposed name, “Red Hill Douglas County, Oregon.” The petitioner suggested the new name because the originally proposed name could be confused with similar names of other geographical areas and with brand names used on wines from those other areas.

DATES: Written comments must be received on or before March 4, 2005.

ADDRESSES: You may send comments to any of the following addresses:

• Chief, Regulations and Procedures Division, Alcohol and Tobacco Tax and Trade Bureau, Attn: Notice No. 31, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the original petition, the appropriate maps, and any comments we receive about this notice by appointment at the TTB Library, 1310 G Street, NW., Washington, DC 20220. To make an appointment, call (202) 927-2400. You may also access copies of this notice and comments online at http://www.ttb.gov/alcohol/rules/index.htm.

FOR FURTHER INFORMATION CONTACT: Nancy Sutton, Regulations and Procedures Division, Alcohol and Tobacco Tax and Trade Bureau, 925 Lakeville St., No. 158, Petaluma, California 94952; telephone (415) 271-1254.

SUPPLEMENTARY INFORMATION:

Background

On October 30, 2002, the Bureau of Alcohol, Tobacco and Firearms, the predecessor agency to the Alcohol and Tobacco Tax and Trade Bureau (TTB), published in the Federal Register as Notice No. 960 (67 FR 66079) a notice of proposed rulemaking regarding the establishment of the Red Hill (Oregon) viticultural area. The notice requested comments by December 30, 2002, from all interested persons.

Notice No. 960 included a discussion of the name evidence for Red Hill. As noted in Notice No. 960, the Red Hill name has been used in Douglas County, Oregon, for over 100 years. Historically, the Applegate and the Scott families settled at the foot of Red Hill in the mid-19th century. By 1879, settlers established a school district in the Red Hill area, and built a schoolhouse on Red Hill Road (identified in the southeast corner of the United States Geological Survey (USGS) Drain, Oregon, map in section 26, T23S/R5W. The school district operated until 1943 when it merged with the Pleasant Valley District. “Douglas County Schools, A History Outline,” by Larry Moulton, October 2000, includes a hand-drawn map and directions to the “Red Hill School Site.” The Red Hill School now stands abandoned.

The USGS Drain, Oregon, map labels “Red Hill” in sections 35, 26 and 23, T23S/R5W. The map also identifies a light duty road meandering through the region as “Red Hill Road.” Interstate 5 signage at exit number 150 in northern Douglas County, Oregon, includes the “Red Hill” name and directional information to the area. The USGS Geographical Names Information System identifies “Red Hill” as an area in Douglas County, Oregon. Douglas County is located in southwest Oregon, as noted the Oregon-Washington American Automobile Association State Series map, published February 2003, and on page 92, “Oregon,” of the American Map 2002 Road Atlas.

After publication of Notice No. 960, TTB twice re-opened the comment period for additional public comments on the entire petition. Notice No. 966 (68 FR 2262), published on January 16, 2003, requested comments by March 17, 2003. TTB Notice No. 6 (68 FR 20090), published on April 24, 2003, requested comments by May 27, 2004.

In response to these notices, TTB received a total of 32 comments, with 16 supporting and 12 opposing the petition, 1 requesting an extension of the comment period, and 3 requesting a public hearing.

Supporting commenters focused on the distinctive features of the proposed area and the locally known Red Hill name. Opposing commenters expressed concern about the potential name confusion with other geographical areas, the similarity of the proposed name to other wine brand names, and the geographical and climatic evidence submitted for the proposed area.

After reviewing the comments, TTB suggested that the petitioner provide an alternative name for the proposed viticultural area because its originally proposed name could be confused with similar names of other geographical areas and with brand names used on wines from those other areas. The petitioner, after some consideration, withdrew the original “Red Hill (Oregon)” name and proposed in its place the name “Red Hill Douglas County, Oregon.” TTB believes the Red Hill Douglas County, Oregon name is appropriate for the area and will not create any confusion with other geographical areas or wine brand names that contain the words “Red Hill.”

Accordingly, we are reopening the comment period for Notice No. 960 for the specific purpose of eliciting comments on the new name for the proposed viticultural area. We are also modifying the proposed part 9 regulatory text by adding a second sentence to paragraph (a) to define the viticultural significance of the new proposed name. We explain the impact of the adoption of this viticultural area name and its relevance to this comment solicitation in more detail below.

Impact on Current Wine Labels

Part 4 of the TTB regulations prohibits any label reference on a wine that indicates or implies an origin other than the wine's true place of origin. If we establish this proposed viticultural area, its name, “Red Hill Douglas County, Oregon,” will be recognized as a name of viticultural significance. Consequently, wine bottlers using “Red Hill Douglas County, Oregon” in a brand name, including a trademark, or in another label reference as to the origin of the wine, will have to ensure that the product is eligible to use the viticultural area's name as an appellation of origin. On the other hand, we do not believe that any single part of the proposed viticultural name standing alone, such as “Red Hill,” would have viticultural significance if the new area is established. Accordingly, the proposed part 9 regulatory text set forth in this document specifies only the full “Red Hill Douglas County, Oregon” name as a term of viticultural significance for purposes of part 4 of the TTB regulations.

For a wine to be eligible to use as an appellation of origin the name of a viticultural area specified in part 9 of the TTB regulations, at least 85 percent of the grapes used to make the wine must have been grown within the area represented by that name. If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Red Hill Douglas County, Oregon” for a wine that does not meet the 85 percent standard, the new label will not be approved, and the previously approved label will be subject to revocation, upon the effective date of the approval of the Red Hill Douglas County, Oregon viticultural area.

Different rules apply if a wine has a brand name containing a viticultural area name that was used as a brand name on a label approved before July 7, 1986. See 27 CFR 4.39(i)(2) for details.

Changes to Proposed Boundary Description

In addition to the name change discussed above, the proposed regulatory text set forth in this notice includes a redraft of the boundary description for the petitioned-for viticultural area. We took this action to ensure ease of understanding and to describe the boundary line in a clockwise rotation. The redrafted description makes no change to the location of the boundary as set forth in Notice No. 960.

Public Participation

Comments Invited

We invite comments from interested members of the public on the new proposed “Red Hill Douglas County, Oregon” viticultural area name and on the redrafted boundary description. Please provide any available specific information in support of your comments. We will not consider comments on other aspects of Notice No. 960 that are not addresses in this notice.

Because of the potential impact of the establishment of the proposed Red Hill Douglas County, Oregon viticultural area on brand labels that include the words “Red Hill Douglas County, Oregon” as discussed above under “Impact on Current Wine Labels,” we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Although TTB believes that only the full name “Red Hill Douglas County, Oregon” should be considered to have viticultural significance upon establishment of the proposed new viticultural area, we also invite comments from those who believe that other parts of the name, standing alone, would have viticultural significance upon establishment of the area. Comments in this regard should include documentation or other information supporting the conclusion that use of a part of the name, standing alone, on a wine label could cause consumers and vintners to attribute to the wine in question the quality, reputation, or other characteristic of wine made from grapes grown in the proposed Red Hill Douglas County, Oregon viticultural area.

Confidentiality

All submitted material is part of the public record and subject to disclosure. Do not enclose any material in your comments that you consider confidential or inappropriate for public disclosure.

Submitting Comments

Please submit your comments by the closing date shown above in this notice. All comments must include this notice number and your name and mailing address. Your comment must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

Public Disclosure

You may view copies of this notice, the petition, the appropriate maps, and any comments we receive by appointment at the TTB Library at 1310 G Street, NW., Washington, DC 20220. You may also obtain copies at 20 cents per 8.5- by 11-inch page. Contact our librarian at the above address or telephone 202-927-2400 to schedule an appointment or to request copies of comments.

For your convenience, we will post this notice and any comments we receive on the TTB Web site. We may omit voluminous attachments or material that we consider unsuitable for posting. In all cases, the full comment will be available in the TTB Library. To access the online copy of this notice, visit http://www.ttb.gov/alcohol/rules/index.htm. Select the “View Comments” link under this notice number to view the posted comments.

Drafting Information

Nancy Sutton of the Regulations and Procedures Division, Alcohol and Tobacco Tax and Trade Bureau, drafted this notice.

List of Subjects in 27 CFR Part 9

Wine.

Proposed Regulatory Amendment

Notice No. 960 was issued under the authority of 27 U.S.C. 205. For the reasons discussed in the preambles of Notice No. 960 and this notice, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.175 to read as follows:

§ 9.175 Red Hill Douglas County, Oregon.

(a) Name. The name of the viticultural area described in this section is “Red Hill Douglas County, Oregon”. For purposes of part 4 of this chapter, “Red Hill Douglas County, Oregon” is a term of viticultural significance.

(b) Approved Maps. The appropriate maps for determining the boundary of the Red Hill Douglas County, Oregon viticultural area are three United States Geological Survey (USGS) 1:24,000 scale topographic maps. They are:

(1) Sutherlin, OR (Provisional Edition 1988);

(2) Scotts Valley, OR (Provisional Edition 1987); and

(3) Yoncalla, OR (Provisional Edition 1987).

(c) Boundary. The Red Hill Douglas County, Oregon viticultural area is located in Douglas County, Oregon, east of Interstate 5 near the hamlet of Rice Hill, between the villages of Yoncalla and Oakland.

(1) Beginning on the Yoncalla map along the southern boundary of section 35, T23S/R5W, at the point where a pipeline crosses the T23S/T24S township line, proceed due west 0.8 mile along the T23S/24S township line to its intersection with the 800-foot contour line just west of Pollock Creek in section 34, T23S/R5W (Yoncalla Quadrangle); then

(2) Proceed southerly along the meandering 800-foot contour line, cross onto the Sutherlin map in section 10, T24S/R5W, and continue westerly along the 800-foot contour line to its first intersection with the eastern boundary of section 8, T24S/R5W (Sutherlin Quadrangle); then

(3) Proceed northerly along the meandering 800-foot contour line, return to the Yoncalla map in section 9, T23S/R5W, and continue northerly along the 800-foot contour line to its intersection with the T23S/T24S township line very near the northwest corner of section 4, T24S/R5W (Yoncalla Quadrangle); then

(4) Proceed northeasterly along the 800-foot contour line, cross Wilson Creek in the northern portion of section 23, T23S/R5W, pass onto the Scotts Valley map in section 14, T23S/R5W, and continue northeasterly along the 800-foot contour line to its intersection with the R4W/R5W range line, which at that point is also the eastern boundary of section 1, T23S/R5W (Scotts Valley Quadrangle); then

(5) Proceed southwesterly along the 800-foot contour line, re-cross the R4W/R5W range line, and continue to the second intersection of the 800-foot contour line and the pipeline in section 1, T23S/R5W, (Scotts Valley Quadrangle); then

(6) Proceed 5.75 miles southwesterly along the pipeline, cross Wilson Creek in section 24, T23S/R5W, return to the Yoncalla map in section 26, T23S/R5W, and continue southwesterly along the pipeline to the point of beginning at the intersection of the pipeline and the T23S/T24S township line in section 35, T23S/R5W (Yoncalla Quadrangle).

Signed: January 26, 2005.
John J. Manfreda,
Administrator.

[FR Doc. 05-1874 Filed 2-1-05; 8:45 am]

BILLING CODE 4810-31-P